DEPARTMENT OF JUSTICE

Notice of Lodging Proposed Consent Decree

In accordance with Departmental Policy, 28 CFR 50.7, notice is hereby given that a proposed Consent Decree in United States v. John E. Wilson, Civil Action No. 8:15-cv-04051-HMH, was lodged with the United States District Court for the District of South Carolina on September 30, 2015.

This proposed Consent Decree concerns a complaint filed by the United States against Defendant John E. Wilson, pursuant to 33 U.S.C. 1311(a) and 1344, to obtain injunctive relief from and impose civil penalties against the Defendant for violating the Clean Water Act by discharging pollutants without a permit into waters of the United States. The proposed Consent Decree resolves these allegations by requiring the Defendant to restore the impacted areas or submit an after-the-fact permit application and perform mitigation and pay a civil penalty. The proposed Consent Decree also provides for the Defendant to perform an Environmental Compliance Promotion Project.

The Department of Justice will accept written comments relating to this proposed Consent Decree for thirty (30) days from the date of publication of this Notice. Please address comments to Beth Drake, First Assistant United States Attorney, United States Attorney's Office, 1441 Main Street, Suite 500, Columbia, South Carolina and refer to United States v. John E. Wilson, Civil Action No. 8:15-cv-04051, USAO File No. 2013V01894.

The proposed Consent Decree may be examined at the Clerk's Office, United States District Court for the District of South Carolina (Anderson/Greenwood Division), United States Courthouse, 300 East Washington Street, Greenville, South Carolina 29601. In addition, the proposed Consent Decree may be examined electronically at http://www.justice.gov/enrd/consent-decrees.

Cherie L. Rogers,
Assistant Section Chief, Environmental Defense Section, Environment and Natural Resources Division.

[FR Doc. 2015-25615 Filed 10-7-15; 8:45 am]

BILLING CODE 4410-15-P